DEPARTMENT OF TRANSPORTATION

Coast Guard

[USCG-2000-7221]

Collection of Information Under Review by Office of Management and Budget (OMB): OMB Control Numbers 2115-0578, 2115-0592, 2115-0625, 2115-0563, 2115-0542, 2115-0135, 2115-0624, and 2115-0106

AGENCY: Coast Guard, DOT.

ACTION: Request for comments.

SUMMARY: In compliance with the Paperwork Reduction Act of 1995, the Coast Guard intends to request the approval of OMB for the renewal of eight Information Collection Requests (ICRs). These ICRs comprise: (1) Small Passenger Vessels—Title 46 CFR Subchapters K and T; (2) Offshore Supply Vessels—46 CFR Subchapter L; (3) Customer Satisfaction Surveys; (4) Nondestructive Testing Proposal and Results for Pressure Vessel Cargo Tanks on Unmanned Barges; (5) Station Bills for Manned Outer Continental Shelf Facilities; (6) Display of Fire Control Plans for Vessels; (7) Standards of Training, Certification and Watchkeeping for Seafarers (STCW), 1995 Amendments; and (8) Plan Approval and Records for Foreign Vessels Carrying Oil in Bulk.

Before submitting the ICRs to OMB, the Coast Guard is asking for comments on the collections described below.

DATES: Comments must reach the Coast Guard on or before June 16, 2000.

ADDRESSES: You may mail comments to the Docket Management System (DMS) [USCG-2000-7221], U.S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The Docket Management Facility maintains the public docket for these requests. Comments will become part of this docket and will be available for inspection or copying at room PL-401, located on the Plaza Level of the Nassif Building at the above address between 9 a.m. and 5 p.m., Monday through Friday, except Federal holidays. You may also access this docket on the Internet at http://dms.dot.gov.

Copies of the complete ICRs are available through this docket on the Internet at http://dms.dot.gov and also from Commandant (G-SII-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; Dorothy Walker, Chief, Documentary Services Division, U.S. Department of Transportation, 202-366-9330, for questions on the docket.

Request for Comments

The Coast Guard encourages interested persons to submit written comments. Persons submitting comments should include their names and addresses, identify this document [USCG-2000-7221] and the specific ICR to which each comment applies, and give the reason(s) for each comment. Please submit all comments and attachments in an unbound format no larger than 8½ by 11 inches, suitable for copying and electronic filing. Persons wanting acknowledgment of receipt of comments should enclose stamped, self-addressed postcards or envelopes.

Information Collection Requests

1. Title: Small Passenger Vessels—Title 46 CFR Subchapters K and T.

OMB Control Number: 2115-0578.

Summary: The reporting and recordkeeping requirements are necessary for the proper administration and enforcement of the program on small passenger vessels. The requirements affect small passenger vessels (under 100 gross tons) that carry more than 6 passengers.

Need: Under the authority of 46 U.S.C. 3305 and 3306, the Coast Guard prescribed requirements for the design, construction, alteration, repair, and operation of small passenger vessels to secure the safety of individuals and property on board. The Coast Guard uses the information in this collection to ensure compliance with the requirements.

Respondents: Owners and operators of small passenger vessels.

Frequency: On occasion.

Burden: The estimated burden is 436,173 hours annually.

2. Title: Offshore Supply Vessels—46 CFR Subchapter L.

OMB Control Number: 2115-0592.

Summary: 46 U.S.C. 3305 and 3306 authorize the Coast Guard to prescribe safety regulations. Title 46 CFR Subchapter L promulgates marine safety regulations for offshore supply vessels (OSV).

Need: The OSV requirements for posting and marking are necessary to provide instructions to those on board of actions to take in an emergency. The recordkeeping requirements verify compliance with regulations without CG presence to witness routine matters.

Respondents: Owners and operators of vessels.

Frequency: On occasion.

Burden: The estimated burden is 5,931 hours annually.

3. Title: Customer Satisfaction Surveys.

OMB Control Number: 2115-0625.

Summary: Executive Order 12862 authorizes the Coast Guard to survey customers to determine the kind and quality of services they want and their level of satisfaction with existing services.

Need: Putting people first means ensuring that the Federal Government provides the highest-quality service possible to the American people. Executive Order 12862 requires that all executive departments and agencies providing significant services directly to the public shall seek to meet established standards of customer service and shall:

• Identify the customers who are, or should be, served by the agency; and

• Survey customers to determine the kind and quality of services they want and their level of satisfaction with existing services.

Respondents: Recreational boaters, commercial mariners, industry groups, State and local governments.

Frequency: On occasion.

Burden: The estimated burden is 4,712 hours annually.

4. Title: Nondestructive Testing Proposal and Results for Pressure Vessel Cargo Tanks on Unmanned Barges.

OMB Control Number: 2115-0563.

Summary: The Coast Guard uses the results of nondestructive testing to evaluate the suitability of older pressure-vessel-type cargo tanks of unmanned barges to remain in service. Once every ten years it subjects such a tank, on an unmanned barge, 30 years old or older to nondestructive testing.

Need: Under 46 U.S.C. 3703, the Coast Guard is responsible for ensuring safe shipment of liquid dangerous cargoes and has promulgated rules for certain barges to ensure the meeting of safety standards.

Respondents: Owners of tank barges.

Frequency: Every 10 years.

Burden: The estimated burden is 84.5 hours annually.

5. Title: Station Bills for Manned Outer Continental Shelf Facilities.

OMB Control Number: 2115-0542.

Summary: 43 U.S.C. 1333(d) authorizes the Coast Guard to issue safety requirements for Outer Continental Shelf (OCS) activities. 33 CFR 146.130 promulgates the rules for Station Bills.

Need: Station Bills on manned OCS facilities are necessary to promote safety of life on these facilities. They are an efficient means for disseminating information to all persons on OCS facilities regarding their duties, duty stations, and signals used during emergencies and drills.

Respondents: Operators of OCS facilities.

Frequency: On occasion.

Burden: The estimated burden is 526 hours annually.

6. Title: Display of Fire Control Plans for Vessels.

OMB Control Number: 2115-0135.

Summary: This information collection is for the posting or display of specific plans on certain categories of commercial vessels. The availability of these plans aids firefighters and damage-control efforts in response to emergencies.

Need: Under 46 U.S.C. 3305 and 3306, the Coast Guard is responsible for ensuring the safety of inspected vessels and has promulgated rules to ensure the meeting of safety standards.

Respondents: Owners and operators of vessels.

Frequency: On occasion.

Burden: The estimated burden is 798 hours annually.

7. Title: Standards of Training, Certification and Watchkeeping for Seafarers (STCW), 1995 Amendments.

OMB Control Number: 2115-0624.

Summary: This information is necessary to ensure compliance with the international requirements of the STCW Convention, and to maintain an acceptable level of quality in activities associated with training and assessment of merchant mariners.

Need: 46 U. S. C. Chapter 71 authorizes the Coast Guard to issue rules on licensing merchant mariners. 46 CFR Subchapter B prescribes the regulations.

Respondents: Owners and operators of vessels, training institutions, and mariners.

Frequency: On occasion.

Burden: The estimated burden is 18,331 hrs annually.

8. Title: Plan Approval and Records for Foreign Vessels Carrying Oil in Bulk.

OMB Control Number: 2115-0106.

Summary: The Coast Guard reviews plans and records to determine whether foreign tank vessels comply with applicable standards of design and construction.

Need: 46 U.S.C. 3703 authorizes the Coast Guard to prescribe rules on tank vessels for preventing pollution. 33 CFR part 157, Subpart B, contain regulations governing design of tank vessels.

Respondents: Owners and operators of vessels.

Frequency: On occasion.

Burden: The estimated burden is 65 hours annually.

Dated: March 29, 2000.
Daniel F. Sheehan,
Director of Information and Technology.

[FR Doc. 00-9408 Filed 4-14-00; 8:45 am]

BILLING CODE 4910-15-P